SMALL BUSINESS ADMINISTRATION

[Disaster Declaration #16997 and #16998; Alabama Disaster Number AL-00121]

Presidential Declaration of a Major Disaster for Public Assistance Only for the State of Alabama

AGENCY: Small Business Administration.

ACTION: Notice.

SUMMARY: This is a Notice of the Presidential declaration of a major disaster for Public Assistance Only for the State of Alabama (FEMA-4596-DR), dated 06/08/2021.

Incident: Severe Storm, Straight-line Winds, and Tornadoes.

Incident Period: 03/25/2021 through 03/26/2021.

DATES: Issued on 06/08/2021.

Physical Loan Application Deadline Date: 08/09/2021.

Economic Injury (EIDL) Loan Application Deadline Date: 03/08/2022.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 06/08/2021, Private Non-Profit organizations that provide essential services of a governmental nature may file disaster loan applications at the address listed above or other locally announced locations.

The following areas have been determined to be adversely affected by the disaster:

Primary Counties: Bibb, Calhoun, Clay, Hale, Perry, Randolph, Shelby.

The Interest Rates are:

| Percent
For Physical Damage:
Non-Profit Organizations with Credit Available Elsewhere | 2.000
Non-Profit Organizations without Credit Available Elsewhere | 2.000
For Economic Injury:
Non-Profit Organizations without Credit Available Elsewhere | 2.000

The number assigned to this disaster for physical damage is 16997 C and for economic injury is 16998 0.

(Catalog of Federal Domestic Assistance Number 59008)

Barbara Carson,
Acting Associate Administrator for Disaster Assistance.

[FR Doc. 2021-12543 Filed 6-14-21; 8:45 am]

BILLING CODE 8026-03-P